DEPARTMENT OF ENERGY

Federal Energy Regulatory Commission

[Docket No. CP07-397-000]

Williston Basin Interstate Pipeline Company; Notice of Request Under Blanket Authorization

June 25, 2007.

Take notice that on June 13, 2007 and supplemented on June 18, 2007, Williston Basin Interstate Pipeline Company (Williston Basin), 1250 West Century Avenue, Bismarck, North Dakota 58503, filed in Docket No. CP07-397-000, a prior notice request pursuant to sections 157.205, 157.210, and 157.216 of the Federal Energy Regulatory Commission's regulations under the Natural Gas Act for authorization to replace, modify, and abandon natural gas pipeline facilities, located in Burleigh and Morton Counties, North Dakota, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Williston Basin states that due to the construction of a new bridge and the demolition of the Memorial Bridge, Williston Basin must relocate and abandon the section of pipeline attached to the Memorial Bridge. Specifically, Williston Basin requests authorization to construct approximately four miles of 16-inch diameter steel pipeline, install a new regulator station, reconfigure the operation of certain existing facilities, construct a mainline valve setting and a pig launcher-receiver, and abandon short segments of pipeline. Williston Basin estimates the cost of construction to be $3,100,000.

Any questions regarding the application should be directed to Keith A. Tiggelaar, Director of Regulatory Affairs, Williston Basin Interstate Pipeline Company, P. O. Box 5601, Bismarck, North Dakota 58506-5601, or call at (701) 530-1560.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E7-12807 Filed 7-2-07; 8:45 am]

BILLING CODE 6717-01-P